DEPARTMENT OF COMMERCE

[Docket No. 150806684-5967-02]

Privacy Act of 1974, Altered System of Records

AGENCY: U.S. Census Bureau, U.S. Department of Commerce.

ACTION: Notice of Proposed Amendment to Privacy Act System of Records: COMMERCE/CENSUS-9, Longitudinal Employer-Household Dynamics System.

SUMMARY: The Department of Commerce publishes this notice to announce the effective date of a Privacy Act System of Records notice entitled Notice of Proposed Amendment to Privacy Act System of Records: COMMERCE/CENSUS-9, Longitudinal Employer-Household Dynamics System.

DATES: The system of records becomes effective on October 30, 2015.

ADDRESSES: For a copy of the system of records please mail requests to: Chief, Privacy Compliance Branch, Room—8H021, U.S. Census Bureau, Washington, DC 20233-3700.

FOR FURTHER INFORMATION CONTACT: Chief, Privacy Compliance Branch, Room—8H021, U.S. Census Bureau, Washington, DC 20233-3700.

SUPPLEMENTARY INFORMATION: On September 17, 2015 (80 FR 55831), the Department of Commerce published a notice in the Federal Register requesting comments on a proposed new Privacy Act System of Records notice entitled Notice of Proposed Amendment to Privacy Act System of Records: COMMERCE/CENSUS-9, Longitudinal Employer-Household Dynamics System. No comments were received in response to the request for comments. By this notice, the Department of Commerce is adopting the proposed new system as final without changes effective October 30, 2015.

Dated: October 26, 2015.
Michael J. Toland,
Department of Commerce, Freedom of Information and Privacy Act Officer.

[FR Doc. 2015-27719 Filed 10-29-15; 8:45 am]

BILLING CODE 3510-07-P